DEPARTMENT OF COMMERCE

International Trade Administration

President's Advisory Council on Doing Business in Africa

AGENCY: International Trade Administration, U.S. Department of Commerce.

ACTION: Notice of an open meeting.

SUMMARY: The President's Advisory Council on Doing Business in Africa (PAC-DBIA or Council) will meet to deliberate on analysis of the top three obstacles U.S. companies face in approaching African markets, competing for business opportunities, and operating business activities. Topics may include: Market risk, capital market development, market size, localization requirements, foreign government support to enable competitors, procurement practices, local skilled workforce availability, foreign exchange, trade facilitation, and infrastructure. The final agenda for the meeting will be posted at least one week in advance of the meeting on the Council's Web site at http://trade.gov/pac-dbia.

DATES: November 29, 2017, 9:30 a.m. (EST).

ADDRESSES: The President's Advisory Council on Doing Business in Africa meeting will be broadcast via live webcast on the Internet at http://whitehouse.gov/live.

FOR FURTHER INFORMATION CONTACT: Giancarlo Cavallo or Ashley Bubna, Designated Federal Officers, President's Advisory Council on Doing Business in Africa, Department of Commerce, 1401 Constitution Ave. NW., Room 22004, Washington, DC 20230 telephone: 202-482-2091, email: dbia@trade.gov.

SUPPLEMENTARY INFORMATION:

Background: The Council was established on November 4, 2014, to advise the President, through the Secretary of Commerce, on strengthening commercial engagement between the United States and Africa. The Council's charter was renewed for a second, two-year term in September 2017. The Council was established in accordance with the provisions of the Federal Advisory Committee Act (FACA), as amended, 5 U.S.C. App.

Public Submissions: The public is invited to submit written statements to the Council. Statements must be received by 5:00 p.m. November 22, 2017 by either of the following methods:

a. Electronic Submissions

Submit statements electronically to Giancarlo Cavallo and Ashley Bubna, Designated Federal Officers, President's Advisory Council on Doing Business in Africa, via email: dbia@trade.gov.

b. Paper Submissions

Send paper statements to Giancarlo Cavallo and Ashley Bubna, Designated Federal Officers, President's Advisory Council on Doing Business in Africa, Department of Commerce, 1401 Constitution Ave. NW., Room 22004, Washington, DC 20230.

Statements will be provided to the members in advance of the meeting for consideration and also will be posted on the Council Web site (http://trade.gov/pac-dbia). Any business proprietary information should be cleared and designated as such. All statements received, including attachments and other supporting materials, are part of the public record and subject to public disclosure.

Meeting minutes: Copies of the Council's meeting minutes will be available within ninety (90) days of the meeting on the Council's Web site at http://trade.gov/pac-dbia.

Dated: November 8, 2017.
Fred Stewart,
Director, Office of Africa.

[FR Doc. 2017-24664 Filed 11-14-17; 8:45 am]

BILLING CODE 3510-DR-P